DEPARTMENT OF JUSTICE

Immigration and Naturalization Service

8 CFR Part 212

[INS No. 2144-01]

RIN 1115-AG27

Removing Russia from the List of Countries Whose Citizens or Nationals Are Ineligible for Transit Without Visa (TWOV) Privileges to the United States Under the TWOV Program

AGENCY: Immigration and Naturalization Service, Justice.

ACTION: Interim rule with request for comments.

SUMMARY: The Transit Without Visa (TWOV) Program allows certain aliens to transit the United States en route to a specified foreign country without a passport or visa provided they are traveling on a carrier signatory to an agreement with the Immigration and Naturalization Service (Service) in accordance with section 233(c) of the Immigration and Nationality Act (Act). This interim rule removes Russia from the list of those countries that the Service, acting on behalf of the Attorney General and jointly with the Department of State, has determined to be ineligible for participation in the TWOV program.

DATES: Effective date: This interim rule is effective June 15, 2001.

Comment date: Written comments must be submitted on or before August 14, 2001.

ADDRESSES: Please submit written comments to the Director, Policy Directives and Instructions Branch, Immigration and Naturalization Service, 425 I Street, NW., Room 4034, Washington, DC 20536. Please include INS number 2144-01 on your correspondence to ensure proper and timely handling. You may also submit comments to the Service electronically at http:/www.ins.usdoj.gov. When submitting comments electronically, please include INS No. 2144-01 in the subject line. Comments are available for public inspection at the above address by calling (202) 514-3048 to arrange for an appointment.

FOR FURTHER INFORMATION CONTACT: Robert F. Hutnick, Assistant Chief Inspector, Immigration and Naturalization Service, 425 I Street, NW., Room 4064, Washington, DC 20536, telephone number (202) 616-7499.

SUPPLEMENTARY INFORMATION:

What Is the Authority for Participation in the TWOV Program?

Section 212(d)(4)(C) of the Act provides authority for the Attorney General acting jointly with the Secretary of State (see Department of State regulation published elsewhere in this issue of the Federal Register) to waive nonimmigrant visa requirements for aliens who are proceeding in immediate and continuous transit through the United States and are using a carrier which has entered into a contract with the Service authorized under section 233(c) of the Act, in this case an Immediate and Continuous Transit Agreement on Form I-426, also known as a TWOV Agreement.

How Does This Interim Rule Amend the Regulations?

This rule amends § 212.1(f)(2) by removing Russia from the list of countries whose citizens are ineligible for TWOV privileges.

Why Is Russia Being Removed From the Ineligibility List in § 212.1(f)(2)?

Upon further review by the Service, and in consultation with the Department of State, the Service now has determined that Russia should be granted TWOV privileges. This determination has been made, in light of the factors that the Service has adopted, for determining which countries' citizens and nationals are ineligible to apply for TWOV privileges. The Service therefore is removing Russia from the listing of countries whose citizens are ineligible for TWOV privileges.

Good Cause Exception

The implementation of this rule as an interim rule, with a 60-day provision for post-promulgation public comments, is based on the “good cause” exception found at 5 U.S.C. 553(b)(B) and 553(d)(3). Since the Service is removing a country from the list of ineligible countries, the Service finds that “good cause” exists under 5 U.S.C. 553(d)(3) to make this rule effective upon date of publication. Delaying the effective date of this interim rule is impractical and contrary to the public interest because it would prevent the Service and the Secretary of State from reinstating TWOV privileges on a timely basis. Accordingly, there is “good cause” under 5 U.S.C. 553 to make this rule effective upon the date of publication in the Federal Register.

Regulatory Flexibility Act

The Acting Commissioner of the Immigration and Naturalization Service, in accordance with the Regulatory Flexibility Act (5 U.S.C. 605(b)), has reviewed this regulation and by approving it certifies that, although this rule may have an economic impact on small entities (air carriers), this rule is intended to encourage travel by Russian nationals and thus would have a positive impact on the air carrier and port-of-entry revenues.

Unfunded Mandates Reform Act of 1995

This rule will not result in the expenditure by State, local, and tribal governments in the aggregate, or by the private sector, of $100 million or more in any one year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in cost or prices; or significant adverse effects on competition, employment, investment, productivity, innovation, or on the ability of United States-based companies to compete with foreign-based companies in domestic and export markets.

Executive Order 12866

This rule is not considered by the Department of Justice, Immigration and Naturalization Service, to be a “significant regulatory action” under Executive Order 12866, section 3(f), Regulatory Planning and Review. Accordingly, the Office of Management and Budget has waived its review process under section 6(a)(3)(A).

Executive Order 13132

This rule will not have substantial direct effects on the States, on the relationship between the Government and the States, or on the distribution of power and responsibilities among the various levels of government. Therefore, in accordance with section 6 of Executive Order 13132, it is determined that this rule does not have sufficient federalism implications to warrant the preparation of a federalism summary impact statement.

Executive Order 12988—Civil Justice Reform

This final rule meets the applicable standards set forth in sections 3(a) and 3(b)(2) of Executive Order 12988.

List of Subjects in 8 CFR Part 212

Administrative practice and procedure, Aliens, Passports and visas.

Accordingly, part 212 of chapter I of title 8 of the Code of Federal Regulations is amended as follows:

PART 212—DOCUMENTARY REQUIREMENTS: NONIMMIGRANTS; WAIVERS; ADMISSION OF CERTAIN INADMISSIBLE ALIENS; PAROLE

1. The authority citation for part 212 continues to read as follows:

Authority: 8 U.S.C. 1101, 1102, 1103, 1182, 1184, 1187, 1225, 1226, 1227, 1228, 1252; 8 CFR part 2.

§ 212.1 [Amended]

2. Section 212.1(f)(2) is amended by removing the country “Russia,” from the list of countries whose citizens and nationals are ineligible for TWOV privileges.

Dated: June 12, 2001.
Kevin D. Rooney,
Acting Commissioner, Immigration and Naturalization Service.

[FR Doc. 01-15133 Filed 6-12-01; 3:47 pm]

BILLING CODE 4410-10-U